DEPARTMENT OF COMMERCE

National Oceanic and Atmospheric Administration

Proposed Information Collection; Comment Request; Individual Fishing Quotas for Pacific Halibut and Sablefish in the Alaska Fisheries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 20, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Stephanie Warpinski, (907) 586-7228.

SUPPLEMENTARY INFORMATION:

I. Abstract

This request is for revision and extension of a currently approved information collection.

The National Marine Fisheries Service (NMFS) established the Individual Fishing Quota (IFQ) Program to improve the long-term productivity of the sablefish and Pacific halibut fisheries by further promoting the conservation and management objectives of the Magnuson-Stevens Fishery Conservation and Management Act, 16 U.S.C. 1801 et seq., (with respect to sablefish) and the Northern Pacific Halibut Act of 1982 (with respect to Pacific halibut) while retaining the character and distribution of the fishing fleets as much as possible. The IFQ Program includes several provisions, such as ownership caps and vessel use caps that protect small harvesters and processors, part-time participants, and entry-level participants that otherwise could be adversely affected by excessive consolidation.

The IFQ Program also includes other restrictions to prevent the halibut and sablefish fisheries from domination by large boats or by any particular vessel class. NMFS designed the requirements to maintain a predominantly owner-operated fishery, which was a key characteristic of the halibut and sablefish fisheries prior to the implementation of the IFQ Program. The IFQ Program provides each fisherman an IFQ that can be used any time during the open season to allow each fisherman to set his/her own pace and fishing effort.

Under the IFQ Program, quota share (QS) represents a harvesting privilege for a person. Annually, NMFS issues IFQ to QS holders to harvest specified poundage. The specific amount of IFQ held by a person is determined by the number of QS units held, the total number of QS units issued in a specific regulatory area, and the total pounds of sablefish or halibut allocated for the IFQ fisheries in a particular year. Fishermen may harvest the IFQ over the entire fishing season, which extends approximately from March through November 15.

The IFQ Manual Landing Report form will be removed from this information collection. This form is approved under OMB Control Number 0648-0515 (Alaska Interagency Electronic Reporting System (IERS)) and will remain in that collection.

II. Method of Collection

“Fillable” forms and applications are available from the NMFS Alaska Region Web site at https://alaskafisheries.noaa.gov/fisheries-applications, except for those forms completed by NOAA Office of Law Enforcement officers via the telephone. These forms and applications may be completed on the computer by the participant, downloaded, printed, and faxed to NMFS.

III. Data

OMB Control Number: 0648-0272.

Form Number(s): None.

Type of Review: Regular submission (revision and extension of a current information collection).

Affected Public: Business or other for-profit organizations; Individuals or households; Not-for-profit institutions.

Estimated Number of Respondents: 1,639.

Estimated Time per Response: Application for Eligibility to receive QS/IFQ (TEC), QS holder form (Identification of Ownership Interest), Application for Transfer of QS/IFQ (includes sweep-up); Application for Military Transfer, and Application for Emergency Medical Transfer, 2 hours each; Application for IFQ/CDQ Hired Master Permit, Application for Registered Buyer permit, QS/IFQ Designated Beneficiary Form, and Application for replacement of certificates, permits, or licenses, 30 minutes each; Registered Buyer landing report, and Transshipment Authorization, 12 minutes each; Prior Notice of Landing (PNOL), and IFQ Departure Report, 15 minutes each; IFQ Administrative Waiver, and Dockside Sales Receipt, 6 minutes each.

Estimated Total Annual Burden Hours: 3,930 hours.

Estimated Total Annual Cost to Public: $5,127 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 14, 2017.
Sarah Brabson,
NOAA PRA Clearance Officer.

[FR Doc. 2017-19888 Filed 9-18-17; 8:45 am]

BILLING CODE 3510-22-P